DEPARTMENT OF HEALTH AND HUMAN SERVICES

Health Resources and Services Administration

Notice of Supplemental Award; Early Childhood Developmental Health Systems Program

AGENCY: Health Resources and Services Administration (HRSA), Department of Health and Human Services.

ACTION: Notice of supplemental award.

SUMMARY: HRSA is providing supplemental award funds in federal fiscal year (FY) 2024 to the current recipient of the Early Childhood Developmental Health Systems Program (ECDHS) cooperative agreement (HRSA-22-091), to support existing activities relating to early childhood developmental health services.

FOR FURTHER INFORMATION CONTACT: Lynlee Tanner Stapleton, Ph.D.; Lead Public Health Analyst, Division of Home Visiting and Early Childhood Systems, Maternal and Child Health Bureau. Telephone: (301) 443-5764; Email: lstapleton@hrsa.gov.

SUPPLEMENTARY INFORMATION:

Intended Recipient of the Award: ZERO TO THREE National Center for Infant, Toddler and Families, Inc.

Amount of Non-Competitive Award: One combined award of up to $1,000,000 (consisting of a $600,000 supplement and a $400,000 supplement).

Supplement Project Period: September 30, 2024, to September 29, 2025.

Assistance Listing (CFDA) Numbers: 93.110/93.129.

Award Instrument: Non-competitive supplemental funding to the existing Cooperative Agreement.

Authorities: Social Security Act, section 501(a)(2) (42 U.S.C. 701(a)(2)) supplement part A; and Public Health Service Act section 330(l) (42 U.S.C. 254b(l)) supplement part B.

Table 1—Recipients and Award Amounts
Grant number | Award recipient name | City, state | FY23 supplement award amount
UK2MC46349 | Zero to Three National Center for Infant, Toddler, and Families, Inc. | Washington, DC | $1,000,000

Justification: The Consolidated Appropriations Act, 2023 (Pub. L.117-328) and the Further Consolidated Appropriations Act, 2024 (Pub. L. 118-47) made available additional funding beyond the original FY 2022 enacted level to “expand placements of early childhood development experts in pediatrician offices with a high percentage of Medicaid and Children's Health Insurance Program patients” (per Senate Report 118-84). To implement this increase, HRSA funds an additional four Transforming Pediatrics for Early Childhood (TPEC) recipients beyond the original four (for a total of eight) and will continue to provide a supplement of $600,000 to the current ECDHS recipient to provide technical assistance to these additional TPEC recipients and support national ECD integration in pediatric care.

The Further Consolidated Appropriations Act, 2024, also provided funding to HRSA's Bureau of Primary Health Care to support health centers, including “to further integrate early childhood development services and expertise” (as described in Senate Report 118-84). To implement this funding, HRSA will provide an additional supplement of $400,000 to the ECDHS recipient to continue their current technical assistance support, which began in FY 2023, to HRSA funded Health Centers expanding their early childhood development services with funds awarded under HRSA-23-028.

Supplemental funding for similar activities may be considered in future years, depending on the availability of funding for the activity and satisfactory performance.

Carole Johnson,
Administrator.

[FR Doc. 2024-17662 Filed 8-8-24; 8:45 am]

BILLING CODE 4165-15-P